DEPARTMENT OF TRANSPORTATION

Federal Aviation Administration

14 CFR Part 71

[Docket FAA 2004-16971; Airspace Docket 02-ANM-14]

Correction to Class E Airspace; Durango, CO

AGENCY: Federal Aviation Administration (FAA) DOT.

ACTION: Final rule; correction.

SUMMARY: This action corrects an error in airspace designated as Class E 700 feet above the surface, 6.1 mile radius around Durango-La Plata County Airport; Durango, CO.

DATES: 0901 UTC, September 2, 2004.

FOR FURTHER INFORMATION CONTACT: Ed Haeseker, Air Traffic Division, Federal Aviation Administration, 1601 Lind Avenue, SW., Renton, Washington 98055-4056; telephone (425) 227-2527.

SUPPLEMENTARY INFORMATION:

History

Airspace Designations and Reporting Points Document 7400.9L dated September 2, 2003, and effective September 16, 2003, describes the Class E5 700 feet above the surface of the earth airspace as 6.1 mile radius distance around Durango-La Plata County Airport, Durango, CO. An error was discovered in the radius distance of that airspace. This action corrects that error.

List of Subjects in 14 CFR Part 71

Airspace, Incorporation by reference, Navigation (air).

Correction to Final Rule

The radius distance for the Class E 700 feet above the surface of the earth airspace as published in Airspace Designations and Reporting Points Document 7400.9L, dated September 2, 2003, and effective September 16, 3003 is corrected as follows:

PART 71—DESIGNATION OF CLASS A, CLASS B, CLASS C, CLASS D, AND CLASS E AIRSPACE AREAS; AIRWAYS; ROUTES; AND REPORTING POINTS

1. The authority citation for 14 CFR part 71 continues to read as follows:

Authority 49 U.S.C. 106(g), 40103, 40113, 40120; E.O. 10854, 24 FR 9565, 3 CFR, 1959-1963 Comp., p. 389.

§ 71.1 [Corrected]

2. The incorporation by reference in 14 CFR 71.1 of the Federal Aviation Administration Order 7400.9L, Airspace Designations and Reporting Points; dated September 2, 2003, and effective September 16, 2003; is corrected as follows:

Paragraph 6005 Class E Airspace extending upward from 700-feet above the surface.

* * * * *

ANM CO E 5 Durango, CO [Revised]

Durango-La Plata County Airport, CO

(lat. 37°09′05″N, long. 107°45′14″W)

Durango VOR/DME

(lat. 37°09′12″N, long. 107°44′59″W)

That airspace extending upward from 700 feet above the surface within a 6.8 mile radius of Durango-La Plata County Airport, and within 4.3 miles each side of the Durango VOR/DME 224° radial extending from the 6.8 mile radius to 15.2 miles southwest of the VOR/DME; that airspace extending upward from 1,200 feet above the surface bounded by a line from lat. 37°07′59″N, long. 107°25′54″W; to lat. 37°05′30″N, long. 107°18′17″W; to lat. 36°35′00″N, long. 107°53′32″W; to lat. 36°58′00″N, long. 108°25′02″W; to lat. 37°31′30″N, long. 107°47′02″W, to lat. 37°21′41″N, long. 107°33′52″W; thence clockwise via the 15.3-mile radius of the Durango VOR/DME, to the point of beginning, excluding the airspace within the Farmington, NM class E airspace area and all Federal Airways.

* * * * *

Issued in Seattle, Washington, on June 8, 2004.
John Warner,
Acting Manager, Air Traffic Division, Northwest Mountain Region.

[FR Doc. 04-13826 Filed 6-30-04; 8:45 am]

BILLING CODE 4910-13-M